DEPARTMENT OF HOMELAND SECURITY

Federal Emergency Management Agency

[Docket ID: FEMA-2009-0014]

Emergency Responder Field Operations Guide

AGENCY: Federal Emergency Management Agency, DHS.

ACTION: Notice of availability; request for comments.

SUMMARY: The Federal Emergency Management Agency is requesting public comments on the Emergency Responder Field Operations Guide (ER FOG). The ER FOG was drafted to assist emergency response personnel in the use of the National Incident Management System Incident Command System during incident operations.

DATES: Comments must be received by March 18, 2011.

ADDRESSES: You may submit comments, identified by Docket ID FEMA-2009-0014, by one of the following methods:

Federal eRulemaking Portal: http://www.regulations.gov. Follow the instructions for submitting comments.

E-mail: FEMA-POLICY@dhs.gov. Include Docket ID FEMA-2009-0014 in the subject line of the message.

Fax: 703-483-2999.

Mail/Hand Delivery/Courier: Office of Chief Counsel, Federal Emergency Management Agency, Room 835, 500 C Street, SW., Washington, DC 20472.

Instructions: All submissions received must include the agency name and docket ID. Regardless of the method used for submitting comments or material, all submissions will be posted, without change, to the Federal eRulemaking Portal at http://www.regulations.gov, and will include any personal information you provide. Therefore, submitting this information makes it public. You may wish to read the Privacy Act notice that is available via the Privacy Notice link in the footer of http://www.regulations.gov.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Mark Kurisko, Program Specialist, 999 E Street, NW., Washington, DC 20463, 202-646-2840.

SUPPLEMENTARY INFORMATION: The Emergency Responder Field Operations Guide (ER FOG) is intended for use when implementing the Incident Command System (ICS) in response to an incident, regardless of type, size, or location. It does not replace emergency operations plans, laws, regulations, and ordinances. Rather, this document provides guidance for assigned incident personnel by describing ICS and the operational planning cycle, explaining responsibilities, and providing position checklists.

To properly use and understand this guide, personnel should have a basic understanding of NIMS and ICS. The contents of this document are not intended as a substitute for required training and good judgment. All agencies and jurisdictions should ensure that responders receive adequate and appropriate training to perform their assigned duties and tasks.

The ER FOG is available on http://www.regulations.gov, under Docket ID FEMA-2009-0014. Follow the instructions above, in the ADDRESSES section, to submit comments.

Authority: Homeland Security Act of 2002, as amended, 6 U.S.C. 101, et seq., and Homeland Security Presidential Directive (HSPD) 5—Management of Domestic Incidents.

Dated: February 9, 2011.
W. Craig Fugate,
Administrator, Federal Emergency Management Agency.

[FR Doc. 2011-3419 Filed 2-15-11; 8:45 am]

BILLING CODE 9111-46-P